INTERNATIONAL TRADE COMMISSION

[Investigation No. 337-TA-1011]

Certain Inkjet Printers, Printheads, and Ink Cartridges, Components Thereof, and Products Containing the Same; Commission's Determination Not To Review Initial Determinations Terminating Certain Respondents Based on Settlement and Withdrawal of the Complaint as to the Remaining Respondents; Termination of the Investigation

AGENCY: U.S. International Trade Commission.

ACTION: Notice.

SUMMARY: Notice is hereby given that the U.S. International Trade Commission has determined not to review the presiding administrative law judge's (“ALJ”) initial determinations (“ID”) (Order Nos. 5 and 6) terminating certain respondents based on settlement and withdrawal of the complaint as to the remaining respondents.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on July 1, 2016, based on a complaint filed on behalf of HP Inc. of Palo Alto, California (“complainant”). 81 FR 43244 (July 1, 2016). The complaint alleges violations of Section 337 of the Tariff Act of 1930, as amended, 19 U.S.C. 1337, in the sale for importation, importation, or sale within the United States after importation of certain inkjet printers, printheads, and ink cartridges, components thereof, and products containing same by reason of infringement of one or more of U.S. Patent No. 6,270,201; U.S. Patent No. 6,491,377; U.S. Patent No. 6,260,952; U.S. Patent No. 7,004,564; U.S. Patent No. 7,090,343; and U.S. Patent No. 7,744,202. The Commission's notice of investigation named the following respondents: Memjet, Ltd. of Dublin, Ireland, Memjet US Services, Inc. of San Diego, California, Memjet Home and Office, Inc. of Eagle, Idaho, Memjet North Ryde Pty Ltd. of New South Wales, Australia, Memjet Technology Ltd. of Dublin, Ireland, Memjet Holdings Ltd. of Dublin, Ireland (collectively “the Memjet respondents”); Afinia LLC (d/b/a Afinia Label) of Chanhassen, Minnesota; Astro Machine Corporation of Elk Grove Village, Illinois; Colordyne Technologies, LLC of Brookfield, Wisconsin; Formax Technologies, Inc. of Dover, New Hampshire; Neopost USA, Inc. (d/b/a Neopost Northwest, Neopost Northeast, Neopost Priority Systems, and/or Neopost Southeast) of Milford, Connecticut; Printware LLC of Eagan, Minnesota; VIPColor Technologies USA, Inc. of Newark, California; ABC Office (d/b/a Brent Barlow) of Kaysville, Utah; All for Mailers, Inc. of Feasterville, Pennsylvania; Fernqvist Labeling Solutions, Inc. of Mountain View, California; Information Management Services LLC (d/b/a MyBinding.com) of Hillsboro, Oregon; JMP Business Systems, Inc. of Clovis, California; Mono Machines LLC of New York, New York; Ordway Corporation (d/b/a Print & Finishing Solutions) of Placentia, California; Pacific Barcode Inc. of Temecula, California; Pacific Code & Label, Inc. of Portland, Oregon; Parts Now! LLC of Madison, Wisconsin; Trademark Copysystems Inc. (d/b/a Addrex—Addresser Sales Company) of Cleveland, Ohio; and Vivid Data Group LLC of Dallas, Texas. The Office of Unfair Import Investigations was named as a party.

On July 7, 2016, complainant and the Memjet respondents filed a joint motion to terminate the Memjet respondents based on settlement. The joint motion asserted that there are no other agreements between complainant and the Memjet respondents.

Also on July 7, 2016, complainant filed a motion to terminate the remaining non-Memjet respondents based on withdrawal of the complaint. The complainant represented that the only agreement concerning the subject matter of the investigation is the settlement agreement with the Memjet respondents. Complainant stated the Memjet respondents do not oppose the motion. On July 18, 2016, OUII filed a response indicating it does not oppose the motion based on settlement, and the motion based on withdrawal of the complaint.

On August 1, 2016, the ALJ issued an ID (Order No. 5) terminating the Memjet respondents based on settlement. The ALJ found that all of the requirements of Commission rule 210.21(a)-(b), 19 CFR 210.21(a)-(b), had been met and that there were no public interest concerns that would weigh against termination. No petitions for review were filed.

Also on August 1, 2016, the ALJ issued an ID (Order No. 6) terminating the non-Memjet respondents based on withdrawal of the complaint. The ALJ found that all of the requirements Commission rule 210.21(a), 19 CFR 210.21(a), had been met and that there were no extraordinary circumstances that would prevent the requested termination. No petitions for review were filed.

The Commission has determined not to review the subject IDs and terminates the investigation.

The authority for the Commission's determination is contained in section 337 of the Tariff Act of 1930, as amended (19 U.S.C. 1337), and in Part 210 of the Commission's Rules of Practice and Procedure (19 CFR part 210).

By order of the Commission.
Issued: August 19, 2016.
Lisa R. Barton,
Secretary to the Commission.

[FR Doc. 2016-20331 Filed 8-24-16; 8:45 am]

BILLING CODE 7020-02-P